COMMISSION ON CIVIL RIGHTS

Agenda and Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA), that a roundtable meeting of the Connecticut Advisory Committee to the Commission will convene at 12:00 p.m. (EST) on Thursday, March 7, 2019, at the ACLU, 765 Asylum Avenue, Hartford, CT 06105. The purpose of the meeting is to plan for an April briefing on prosecutorial appointment in Connecticut.

DATES: Thursday, March 7, 2019.

Time: 12:00 p.m. (EST).

ADDRESSES: ACLU, 765 Asylum Avenue, Hartford, CT 06105.

FOR FURTHER INFORMATION CONTACT: Evelyn Bohor at ero@usccr.gov, or 303-866-1040.

SUPPLEMENTARY INFORMATION: The purpose of the roundtable meeting is to examine topical civil rights issues in Connecticut. The Committee will hear from elected officials, advocates and experts. The public is invited to the meeting and encouraged to address the committee following the presentations.

If other persons who plan to attend the meeting require other accommodations, please contact Evelyn Bohor at ebohor@usccr.gov at the Eastern Regional Office at least ten (10) working days before the scheduled date of the meeting.

Persons interested in the issue are also invited to submit written comments; the comments must be received in the regional office by Monday, April 8, 2019. Written comments may be mailed to the Eastern Regional Office, U.S. Commission on Civil Rights, 1331 Pennsylvania Avenue, Suite 1150, Washington, DC 20425, faxed to (202) 376-7548, or emailed to Evelyn Bohor at ebohor@usccr.gov. Persons who desire additional information may contact the Eastern Regional Office at (202) 376-7533.

Records and documents discussed during the meeting will be available for public viewing as they become available at https://www.facadatabase.gov/FACA/FACAPublicViewCommitteeDetails?id=a10t0000001gzlqAAA, and clicking on the “Meeting Details” and “Documents” links. Records generated from this meeting may also be inspected and reproduced at the Eastern Regional Office, as they become available, both before and after the meeting. Persons interested in the work of this advisory committee are advised to go to the Commission's website, www.usccr.gov, or to contact the Eastern Regional Office at the above phone number, email or street address.

Agenda

Thursday, March 7, 2019; 12:00 p.m. (EST)

I. Welcome and Roll Call

II. Briefing Planning

III. Other Business

IV. Open Comment

V. Adjournment

Dated: February 13, 2019.
David Mussatt,
Supervisory Chief, Regional Programs Unit.

[FR Doc. 2019-02617 Filed 2-15-19; 8:45 am]

BILLING CODE P